DEPARTMENT OF TRANSPORTATION

Federal Aviation Administration

14 CFR Part 71

[Docket No. FAA-2017-0342; Airspace Docket No. 17-AGL-6]

Amendment of Class E Airspace; for the Following Ohio Towns; Millersburg, OH and Coshocton, OH

AGENCY: Federal Aviation Administration (FAA), DOT.

ACTION: Final rule.

SUMMARY: This action amends Class E airspace extending upward from 700 feet above the surface at Holmes County Airport, Millersburg, OH; and at Richard Downing Airport, Coshocton, OH due to the decommissioning of Tiverton VHF Omnidirectional Range (VOR) and Distance Measuring Equipment (DME), cancellation of the VOR approaches, and implementation of area navigation (RNAV) procedures have made this action necessary for the safety and management of instrument flight rules (IFR) operations at these airports. Additionally, the geographic coordinates at Richard Downing Airport and Holmes County Airport would be adjusted to coincide with the FAA's aeronautical database.

DATES: Effective 0901 UTC, May 24, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Walter Tweedy, Federal Aviation Administration, Operations Support Group, Central Service Center, 10101 Hillwood Parkway, Fort Worth, TX 76177; telephone (817) 222-5900.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class E airspace extending upward from 700 feet above the surface at Holmes County Airport, Millersburg, OH and Richard Downing Airport, Coshocton, OH to support IFR operations at these airports.

History

The FAA published in the Federal Register a notice of proposed rulemaking (82 FR 55063; November 20, 2017) for Docket No. FAA-2017-0342 to modify Class E airspace extending upward from 700 feet above the surface at Holmes County Airport, Millersburg, OH. and Richard Downing Airport, Coshocton, OH. Interested parties were invited to participate in this rulemaking effort by submitting written comments on the proposal to the FAA. No comments were received.

Subsequent to publication, an edit was made removing the city in the airspace designation for Holmes County Airport to comply with a recent change to FAA Order 7400.2L, Procedures for Handling Airspace Matters.

Class E airspace designations are published in paragraph 6005 of FAA Order 7400.11B, dated August 3, 2017, and effective September 15, 2017, which is incorporated by reference in 14 CFR 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71 modifies Class E airspace extending upward from 700 feet above the surface within a 6.5-mile radius (reduced from a 6.7-mile radius) at Holmes County Airport, Millersburg, OH. The segments within 2.7 miles either side of the 085° bearing from the airport extending from the 6.7-mile radius to 10.5 miles east of the airport and within 1.8 miles either side of the 236° bearing from the airport, extending from the 6.7-mile radius to 8 miles southwest of the airport, would be removed. This action also updates the geographic coordinates of Holmes County Airport to coincide with the FAA's aeronautical database.

Additionally, the city is removed from the airport name in the airspace description to comply with a recent change to FAA Order 7400.2L, Procedures for Handling Airspace Matters, dated October 12, 2017.

This action also modifies Class E airspace extending upward from 700 feet above the surface within a 6.5-mile radius (increased from a 6.3-mile radius) at Richard Downing Airport, Coshocton, OH, with a segment within 2.0 miles (reduced from 4- miles) either side of the 037° bearing from the airport extending from the 6.5-mile radius to 8.6 miles (reduced from 10- miles) northeast of the airport. This action also updates the geographic coordinates of Richard Downing Airport to coincide with the FAA's aeronautical database.

This action enhances the safety and management of standard instrument approach procedures for IFR operations at these airports.

Class E airspace designations are published in paragraph 6005 of FAA Order 7400.11B, dated August 3, 2017, and effective September 15, 2017, which is incorporated by reference in 14 CFR 71.1. The Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 6005 Class E Airspace Areas Extending Upward From 700 Feet or More Above the Surface of the Earth.

* * * * *

AGL OH E5 Millersburg, OH [Amended]

Holmes County Airport, OH

(Lat. 40°32′12″ N, long. 81°57′21″ W)

That airspace extending upward from 700 feet above the surface within a 6.5-mile radius of the Holmes County Airport.

* * * * *

AGL OH E5 Coshocton, OH [Amended]

Richard Downing Airport, OH

(Lat. 40°18′37″ N, long. 81°51′09″ W)

That airspace extending upward from 700 feet above the surface within a 6.5-mile radius of Richard Downing Airport and within 2.0 miles either side of the 037° bearing from the airport extending from the 6.5-mile radius to 8.6 miles northeast of the airport.

Issued in Fort Worth, Texas, on January 26, 2018.
Christopher L. Southerland,
Acting Manager, Operations Support Group, ATO Central Service Center.

[FR Doc. 2018-02017 Filed 2-1-18; 8:45 am]

BILLING CODE 4910-13-P